DEPARTMENT OF TRANSPORTATION

Federal Aviation Administration

Notice of Intent To Rule on Request to Release Deed Restrictions at the Yellowstone Airport, West Yellowstone, Montana

AGENCY: Federal Aviation Administration (FAA), DOT.

ACTION: Notice requesting comment on request to release deed restrictions at the Yellowstone Airport; re-opening and extension of comment period.

SUMMARY: This action re-opens and extends the comment period for the notice of intent to rule on the request to release deed restrictions at Yellowstone Airport under the provisions of Title 49, U.S.C. 47125 that was published on January 28, 2014. Comments received regarding this notice have requested that the FAA extend the comment period to allow time for full consideration of the proposed ruling.

DATES: The notice of the comment period was published on January 28, 2014 (79 FR 4529), closed Februrary 28, 2014, and is re-opened until May 30, 2014.

ADDRESSES: Comments on the application may be mailed or delivered to the FAA at the following address:

Mr. David S. Stelling, Manager, Federal Aviation Administration, Northwest Mountain Region, Airports Division, Helena Airports District Office, 2725 Skyway Drive, Suite 2, Helena, Montana 59602.

In addition, one copy of any comments submitted to the FAA must be mailed or delivered to Ms. Debbie Alke, Administrator, Montana Department of Transportation Aeronautics Division, at the following address:

Ms. Debbie Alke, Administrator, Aeronautics Division, Montana Department of Transportation, PO Box 200507, Helena, MT 59620-0507.

FOR FURTHER INFORMATION CONTACT: Mr. Steve Engebrecht, Civil Engineer/Compliance Specialist, Federal Aviation Administration, Northwest Mountain Region, Helena Airports District Office, 2725 Skyway Drive, Suite 2, Helena, Montana 59602.

Any person may inspect, by appointment, the request in person at the FAA office listed above under FOR FURTHER INFORMATION CONTACT.

In addition, any person may, upon appointment and request, inspect the request to release deed restrictions and other documents germane to the request in person at the Yellowstone Airport.

Issued in Helena, Montana on March 7, 2014.
David S. Stelling,
Manager, Helena Airports District Office.

[FR Doc. 2014-05639 Filed 3-13-14; 8:45 am]

BILLING CODE 4910-13-P